ENVIRONMENTAL PROTECTION AGENCY

[EPA-HQ-OAR-2007-1196; FRL-9956-89]

Recent Postings of Broadly Applicable Alternative Test Methods

AGENCY: Environmental Protection Agency (EPA).

ACTION: Notice of availability.

SUMMARY: This notice announces the broadly applicable alternative test method approval decisions the Environmental Protection Agency (EPA) has made under and in support of New Source Performance Standards (NSPS) and the National Emission Standards for Hazardous Air Pollutants (NESHAP) between January 1, 2016, and December 12, 2016.

FOR FURTHER INFORMATION CONTACT: An electronic copy of each alternative test method approval document is available at https://www.epa.gov/emc/broadly-applicable-approved-alternative-test-methods. For questions about this notice, contact Mrs. Lula H. Melton, Air Quality Assessment Division, Office of Air Quality Planning and Standards (E143-02), Environmental Protection Agency, Research Triangle Park, NC 27711; telephone number: (919) 541-2910; fax number: (919) 541-0516; email address: melton.lula@epa.gov. For technical questions about individual alternative test method decisions, refer to the contact person identified in the individual approval document(s).

SUPPLEMENTARY INFORMATION:

I. General Information

A. Does this notice apply to me?

This notice will be of interest to entities regulated under 40 Code of Federal Regulations (CFR) parts 60, 61, and 63, state, local, and tribal agencies, and the EPA Regional offices responsible for implementation and enforcement of regulations under 40 CFR parts 60, 61, and 63.

B. How can I get copies of this information?

You may access copies of the broadly applicable alternative test method approval documents at https://www.epa.gov/emc/broadly-applicable-approved-alternative-test-methods.

II. Background

Broadly applicable alternative test method approval decisions made by the EPA in 2016 under the NSPS, 40 CFR part 60 and the NESHAP, 40 CFR parts 61 and 63 are identified in this notice (see Table 1). Source owners and operators may voluntarily use these broadly applicable alternative test methods in lieu of otherwise specified reference test methods. Use of these broadly applicable alternative test methods does not change the applicable emission standards.

As explained in a previous Federal Register notice published at 72 FR 4257 (January 30, 2007) and located at https://www.epa.gov/emc/broadly-applicable-approved-alternative-test-methods, the EPA Administrator has the authority to approve the use of alternative test methods to comply with requirements under 40 CFR parts 60, 61, and 63. This authority is found in sections 60.8(b)(3), 61.13(h)(1)(ii), and 63.7(e)(2)(ii). A similar authority is granted in 40 CFR part 65 under section 65.158(a)(2). In the past, we have performed thorough technical reviews of numerous source-specific requests for alternatives and modifications to test methods and procedures. Based on these reviews, we have often found that these changes or alternatives would be equally valid and appropriate to apply to other sources within a particular class, category, or subcategory. Consequently, we have concluded that, where a method modification or an alternative method is clearly broadly applicable to a class, category, or subcategory of sources, it is both more equitable and efficient to approve its use for all appropriate sources and situations at the same time.

It is important to clarify that alternative methods are not mandatory but permissive. Sources are not required to employ such a method but may choose to do so in appropriate circumstances. Source owners or operators should review the specific broadly applicable alternative method approval decision at https://www.epa.gov/emc/broadly-applicable-approved-alternative-test-methods before electing to employ the alternative method. As per section 63.7(f)(5), a source owner or operator electing to use an alternative method for 40 CFR part 63 standards must continue to use the alternative method until otherwise authorized.

The criteria for approval and procedures for submission and review of broadly applicable alternative test methods are outlined at 72 FR 4257 (January 30, 2007). We will continue to announce approvals for broadly applicable alternative test methods at https://www.epa.gov/emc/broadly-applicable-approved-alternative-test-methods and publish a notice annually that summarizes approvals for broadly applicable alternative test methods during the preceding year.

This notice comprises a summary of seven such approval documents posted to our Technology Transfer Network between January 1, 2016, and December 12, 2016. The alternative method decision letter/memo number, the reference method affected, sources allowed to use this alternative, and the modification or alternative method allowed are summarized in Table 1 of this notice. For more detailed information, please refer to the complete copies of these approval documents available at https://www.epa.gov/emc/broadly-applicable-approved-alternative-test-methods, as Table 1 serves only as a brief summary of the broadly applicable alternative test methods.

If you are aware of reasons why a particular alternative test method approval that we issued should not be broadly applicable or that its use should in some way be limited, we request that you make us aware of the reasons in writing, and we will revisit the broad approval. Any objection to a broadly applicable alternative test method, as well as the resolution of that objection, will be announced at https://www.epa.gov/emc/broadly-applicable-approved-alternative-test-methods and in the subsequent Federal Register notice. If we decide to retract a broadly applicable test method, we will continue to grant case-by-case approvals, as appropriate, and will (as states, local and tribal agencies and the EPA Regional offices should) consider the need for an appropriate transition period for users either to request case-by-case approval or to transition to an approved method.

Dated: December 14, 2016.
Stephen Page,
Director, Office of Air Quality Planning and Standards.

Table 1—Approved Alternative Test Methods and Modifications To Test Methods Referenced in or Published Under Appendices in 40 CFR Parts 60, 61, and 63 Posted Between January 2016 and December 2016
Alternative method decision letter/memo number | As an alternative or modification to . . . | For . . . | You may . . .
ALT-114 | Performance Specification 18-Performance Specifications and Test Procedures for Gaseous Hydrogen Chloride (HCl) Continuous Emission Monitoring Systems at Stationary Sources and Procedure 6-Quality Assurance Requirements for Gaseous Hydrogen Chloride (HCl) Emission Monitoring Systems Used for Compliance Determination at Stationary Sources | Sources subject to 40 CFR Part 63, subpart LLL-National Emission Standards for Hazardous Air Pollutants from the Portland Cement Manufacturing Industry Sources; 40 CFR Part 63, subpart UUUUU-National Emission Standards for Hazardous Air Pollutants: Coal- and Oil-Fired Electric Utility Steam Generating Units; 40 CFR Part 63, subpart DDDDD-National Emission Standards for Hazardous Air Pollutants for Major Sources: Industrial, Commercial, and Institutional Boilers and Process Heaters; and 40 CFR Part 60, subparts CCCC and DDDD-Standards of Performance for Commercial and Industrial Solid Waste Incineration Units | Use the alternative approach for preparation of gas standards as specified in the agency's approval letter dated February 22, 2016.
ALT-115 | 40 CFR 63.7525(a)(2)(vi). | Sources subject to 40 CFR Part 63, subpart DDDDD-National Emission Standards for Hazardous Air Pollutants for Major Sources: Industrial, Commercial, and Institutional Boilers and Process Heaters. | Use the alternative approach for moisture measurement as specified in the agency's approval letter dated March 2, 2016 (only when both CO and CO2 are being measured on a wet basis).
ALT-116 | Method 7E-Determination of Nitrogen Oxide Emissions From Stationary Sources (Instrumental Analyzer Procedure) | Sources subject to 40 CFR Parts 60, 61, and 63 | Use higher concentration NO2 gases in conjunction with Method 205 for converter efficiency testing as specified in the agency's approval letter dated April 27, 2014.
ALT-117 | Method 5-Determination of Particulate Matter Emissions From Stationary Sources | Sources subject to 40 CFR Parts 60, 61, and 63 | Use single temperature DGM (dry gas meter) sensor in lieu of two sensors with the criteria specified in the agency's approval letter dated March 15, 2016.
ALT-118 | Performance Specification 12A-Specifications and Test Procedures for Total Vapor Phase Mercury Continuous Emission Monitoring Systems in Stationary Sources and Procedure 5-Quality Assurance Requirements for Vapor Phase Mercury Continuous Emission Monitoring Systems and Sorbent Trap Monitoring Systems Used for Compliance Determination at Stationary Sources | Sources subject to 40 CFR Part 63, subpart LLL-National Emission Standards for Hazardous Air Pollutants from the Portland Cement Manufacturing Industry; 40 CFR Part 63, subpart UUUUU-National Emission Standards for Hazardous Air Pollutants: Coal- and Oil-Fired Electric Utility Steam Generating Units; 40 CFR Part 63, subpart DDDDD-National Emission Standards for Hazardous Air Pollutants for Major Sources: Industrial, Commercial, and Institutional Boilers and Process Heaters; and 40 CFR Part 60, subparts CCCC and DDDD-Standards of Performance for Commercial and Industrial Solid Waste Incineration Units | Use a NIST-certified Vendor Prime elemental mercury gas generator for research gas mixtures (RGM) in the EPA Traceability Protocol for Assay and Certification of Gaseous Calibration Standards with the provisions specified in the agency's approval letter dated May 24, 2016.
ALT-119 | Performance Specification 12B-Specifications and Test Procedures for Monitoring Total Vapor Phase Mercury Emissions From Stationary Sources Using a Sorbent Trap Monitoring System | Sources subject to 40 CFR Part 63, subparts LLL-National Emission Standards for Hazardous Air Pollutants from the Portland Cement Manufacturing Industry and UUUUU-National Emission Standards for Hazardous Air Pollutants: Coal- and Oil-Fired Electric Utility Steam Generating Units | Use the alternative analytical test procedure for low level measurements as specified in the agency's approval letter dated May 26, 2016.
ALT-120 | 40 CFR 63.1350(k)(2)(ii) and (iii) | Sources subject to 40 CFR Part 63, subparts LLL-National Emission Standards for Hazardous Air Pollutants from the Portland Cement Manufacturing Industry | Use the alternative procedure for above span mercury calibrations through January 1, 2018, only as specified in the agency's approval letter dated June 28, 2016.
Source owners or operators should review the specific broadly applicable alternative method approval letter at https://www.epa.gov/emc/broadly-applicable-approved-alternative-test-methods before electing to employ it.

[FR Doc. 2016-30714 Filed 12-20-16; 8:45 am]

BILLING CODE 6560-50-P